DEPARTMENT OF STATE

[Public Notice 3647]

Culturally Significant Objects Imported for Exhibition Determinations: “Science Under Sail: Russia's Great Voyages to America, 1728-1867”

AGENCY: United States Department of State.

ACTION: Notice; Change.

SUMMARY: On January 24, 2000, Notice was published on page 3751 of the Federal Register (Volume 65, Number 15) by the Department of State pursuant to Pub. L. 89-259 relating to the exhibit “Science Under Sail: Russia's Great Voyages to America, 1728-1867.” The referenced Notice is changed as follows. “I also determine that the exhibition or display of the objects at the Anchorage Museum of History and Art, Anchorage, Alaska, from on or about May 4, 2000, to on or about mid-July 2001, and at the California Academy of Sciences, San Francisco, California, from on or about August 4, 2001, through on or about January 31, 2002, is in the national interest.”

FOR FURTHER INFORMATION CONTACT: For further information, including a list of exhibit objects, contact Jacqueline Caldwell, Attorney-Adviser, Office of the Legal Adviser, U.S. Department of State (telephone: 202/619-6982). The address is U.S. Department of State, SA-44, 301 4th Street, SW., Room 700, Washington, DC 20547-0001.

Dated: April 11, 2001.
Helena Kane Finn,
Acting Assistant Secretary for Educational and Cultural Affairs, United States Department of State.

[FR Doc. 01-9613 Filed 4-17-01; 8:45 am]

BILLING CODE 4710-08-P